DEPARTMENT OF DEFENSE

Department of the Army

Final Environmental Impact Statement (FEIS) for Future Development and Operations at Fort George G. Meade, MD

AGENCY: Department of the Army, DoD.

ACTION: Notice of availability.

SUMMARY: This announces the availability of the FEIS that assesses the effects of future development and operations at Fort Meade on the natural and human environment.

The Proposed Action is the preferred alternative of the FEIS, and includes future development and operations of Fort Meade's Real Property Master Plan expected to occur on the installation between 2001 and 2005. The Proposed Action identifies 11 projects as being representative of the expected build out during this time. These consist of constructing new facilities that would consolidate tenants from dilapidated World War II structures and off-post leased facilities into more cost efficient and effective facilities; and demolition and construction of barracks and associated dining, headquarters and operations facilities. Other alternatives considered by the FEIS include the No Action Alternative and Alternative A. The No Action Alternative is defined as the normal daily operations at Fort Meade and adjacent areas as of 1999. Alternative A consists of constructing 9 of 11 projects purposed by the Proposed Action, and excludes the 2 out-year projects least likely to occur.

DATES: Written comments received within 30 days of the publication of this Notice of Availability by the Environmental Protection Agency in the Federal Register for this action will be considered by the Army during final decision making.

ADDRESSES: To obtain a copy of the FEIS, write to Commander, Fort George G. Meade, ATTN: ANME-PWE (Mr. Jim Gebhardt), Bldg. 239, 2½ Street and Ross Road, Fort Meade, Maryland 20755-5115.

FOR FURTHER INFORMATION CONTACT: Mr. Jim Gebhardt, Environmental Engineer, Fort Meade Directorate of Public Works, Environmental Management Office at (301) 677-9365.

SUPPLEMENTARY INFORMATION: The FEIS concluded that the cumulative impacts of all past, present and reasonably foreseeable future actions would have a significant impact on traffic and air quality in the study area. Whereas the population in the area immediately surrounding Fort Meade is expected to continue its historical growth rate, this rate is minimal compared to the growth in population and activity in the Region of Influence (Anne Arundel and Howard Counties), which is expected to exceed the average annual rate in Maryland of 0.6 percent. The Government concludes that the contribution of Fort Meade is small relative to the regional air quality and traffic problems. The Government further concludes that it is reasonable to proceed with the Proposed Action given Fort Meade's commitment to intensify efforts to work in partnership with the state and others to address the larger traffic and air quality issues in the region.

Fort Meade is currently undertaking four initiatives that will help mitigate the adverse air quality impacts in the region: (1) Conversion of existing oil-fired heating systems to natural gas, (2) use of vehicles powered by natural gas, (3) installation of more energy—efficient devices, and (4) fostering an extensive tree planting and reforestation program. To address traffic impacts, Fort Meade is considering encouraging the use of alternative transportation (e.g. carpooling and flextime), although major rail or bus lines do not currently service the installation. In addition, the construction of the State Route 198 by-pass onto Fort Meade via the former Tipton Army Airfield by the Maryland State Highway Administration is designed to limit the through traffic at Fort Meade to those who reside, work or visit the installation for recreation or other purposes. This is expected to reduce congestion at the intersection of State Routes 198 and 32.

Other resources that would be measurably affected by the Proposed Action or Alternative A are water quality (by stormwater runoff), utility systems infrastructure, and noise. Considering the best management practices planned by Fort Meade to address these effects, no significant impacts to these resources from the Proposed Action, Alternative A or cumulative effects of other actions are expected to occur. The completion of the 11 projects under the Proposed Action would increase Fort Meade's annual economic contribution to the Region of influence.

Dated: August 1, 2001.
Raymond J. Fatz,
Deputy Assistant Secretary of the Army (Environment, Safety and Occupational Health), OASA(I&E).

[FR Doc. 01-19842 Filed 8-7-01; 8:45 am]

BILLING CODE 3710-08-M